DEPARTMENT OF DEFENSE

Department of the Army

Privacy Act of 1974; System of Records

AGENCY: Department of the Army, DoD

ACTION: Notice to amend systems of records.

SUMMARY: The Department of the Army is amending a system of records notice in its existing inventory of record systems subject to the Privacy Act of 1974, (5 U.S.C. 552a), as amended.

DATES: This proposed action will be effective without further notice on April 12, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 5, 2001.
L.M. Bynum,
Alternate OSD Federal Register Liaison Officer, Department of Defense.

A0600-8-1b TAPC

System Name:

Line of Duty Investigations (February 22, 1993, 58 FR 10002).

Changes:

* * * * *

System Location:

Add to entry ‘Regional Support Centers for U.S. Army Reserve, official mailing addresses are published as an appendix to the Army's compilation of record systems notices.’

Categories of Individuals Covered by the System:

Delete entry and replace with ‘Active duty, Reserve and National Guard members who have been injured, diseased or deceased and who are in a duty status.’

Categories of Records in the System:

Add to entry ‘approval/disapproval authority memoranda’.

Authority for Maintenance of the System:

Delete entry and replace with ‘10 U.S.C. 972, Members: Effect of time lost; 10 U.S.C. 1204, Members, on Active Duty for 30 days or less or on inactive duty training: retirement; 10 U.S.C. 1207, Disability from intentional misconduct of willful neglect: separation; 10 U.S.C. 3013, Secretary of the Army; 37 U.S.C. 802, Forfeiture of pay during absence from duty due to disease from intemperate use of alcohol or drugs; and E.O. 9397 (SSN).’

Purpose(s):

Delete entry and replace with ‘To review facts and circumstances of service member's death, injury or disease and render decisions having the effect of approving/denying certain military benefits, pay and allowances.’

* * * * *

Storage:

Delete entry and replace with ‘Paper records in file folders, microfiche and electronic storage media.’

Retrievability:

Add to entry “Social Security Number”.

Safeguards:

Delete entry and replace with “Paper records in file folders are maintained in file cabinets accessible only to authorized personnel in the performance of their duties. Electronic storage media accessible to authorized personnel with password capability.”

Retention and Disposal:

Delete entry and replace with “Documents related to determining line of duty status and incident investigation concerning individual Army members are maintained for 5 years then destroyed.”

* * * * *

Record Source Categories:

Delete entry and replace with “From the individual, medical records, service member's commander, official Army records and reports, witness statements, civilian and military law enforcement agencies.”

* * * * *

AO600-8-1b TAPC

System Name:

Line of Duty Investigations.

System Location:

Personnel Plans and Actions Branch, Personnel Service Center at Army Installations; Army Enlisted Records and Evaluation Center, Fort Benjamin Harrison, IN 46249-0601; U.S. Total Army Personnel Command, Alexandria, VA 22332-0400; U.S. Army Reserve Personnel Center, 9700 Page Avenue, St. Louis, MO 63132-5200; National Personnel Records Center (Military), 9700 Page Avenue, St. Louis, MO 63132-5200; National Guard Bureau, 5109 Leesburg Pike, Falls Church, VA 22041-3258; and Regional Support Centers for U.S. Army Reserve, official mailing addresses are published as an appendix to the Army's compilation of record systems notices.

Categories of Individuals Covered by the System:

Active duty, Reserve and National Guard members who have been injured, diseased or deceased and who are in a duty status.

Categories of Records in the System:

Statement of Medical Examination and Duty Status; Report of Investigation-Line of Duty and Misconduct Status; approval/disapproval authority memoranda, and other relevant supporting documents such as military police reports, accident reports, witness statements, and appointment instruments, and action on appeals.

Authority for Maintenance of the System:

10 U.S.C. 972, Members: Effect of time lost; 10 U.S.C. 1204, Members, on Active Duty for 30 days or less or on inactive duty training; retirement; 10 U.S.C. 1207, Disability from intentional misconduct of willful neglect: separation; 10 U.S.C. 3013, Secretary of the Army; 37 U.S.C. 802, Forfeiture of pay during absence from duty due to disease from intemperate use of alcohol or drugs; and E.O. 9397 (SSN).

Purpose(s):

To review facts and circumstances of service member's death, injury or disease and render decisions having the effect of approving/denying certain military benefits, pay and allowances.

Routine uses of records maintained in the system, including categories of users and the purposes of such uses: In addition to those disclosures generally permitted under 5 U.S.C. 552a(b) of the Privacy Act, these records or information contained therein may specifically be disclosed outside the DoD as a routine use pursuant to 5 U.S.C. 552a(b) (3) as follows:

Information may be provided to the Department of Veterans Affairs for the purpose of determining the service member's entitlement to benefits.

The DoD ‘Blanket Routine Uses’ set forth at the beginning of the Army’ compilation of systems of records notices also apply to this system.

Policies and practices for storing, retrieving, accessing, retaining, and disposing of records in the system:

Storage:

Paper records in file folders, microfiche and electronic storage media.

Retrievability:

By Social Security Number and by service member’ surname.

Safeguards:

Paper records in file folders are maintained in file cabinets accessible only to authorized personnel in the performance of their duties. Electronic storage media accessible to authorized personnel with password capability.

Retention and Disposal:

Documents related to determining line of duty status and incident investigation concerning individual Army members are maintained for 5 years then destroyed.

System Manger(s) and Address:

Commander, U.S. Total Army Personnel Command, 200 Stovall Street, Alexandria, VA 22332-0400.

Notification Procedure:

Individuals seeking to determine if information about themselves is contained in this record system should address written inquiries to the Commander, U.S. Army Enlisted Records and Evaluation Center, Fort Benjamin Harrison, IN 46249-0601 (For enlisted personnel on active duty); Commander, U.S. Total Army Personnel Command, Alexandria, Va 22332-0400 (For officers on active duty); Commander, U.S. Army Reserve Personnel Center, 9700 Page Avenue, St. Louis, MO 63132-5200 (For Army reserve personnel); National Personnel Records Center (Military), 9700 Page Avenue, St. Louis, MO 63132-5200 (For separated enlisted and officer personnel); National Guard bureau, 5109 Leesburg Pike, Falls Church, VA 22041-3258 (For full-time National Guard Duty under 32 U.S.C., those in federalized status, or those attending active Army service school).

Individuals should provide the full name, Social Security Number, present address, and signature.

Record Access Procedures:

Individuals seeking access to records about themselves contained in this record system should address written inquiries to the Commander, U.S. Army Enlisted Records and Evaluation Center, Fort Benjamin Harrison, IN 46249-0601 (For enlisted personnel on active duty); Commander, U.S. total Army Personnel Command, Alexandria, VA 22332-0400 (For officers on active duty); Commander, U.S. Army Reserve Personnel Center, 9700 Page Avenue, St. Louis, MO 63132-5200 (For Army reserve personnel); National Personnel Records Center (Military), 9700 Page Avenue, St. Louis, MO 63132-5200 (For separated enlisted and officer personnel); National Guard Bureau, 5109 Leesburg Pike, Falls Church, VA 22041-3258 (For full-time National Guard Duty under 32 U.S.C., those in federalized status, or those attending active Army service school).

Individuals should provide the full name, Social Security Number, present address, and signature.

Contesting Record Procedures:

The Army's rules for accessing records, and for contesting contents and appealing initial agency determinations are contained in Army Regulation 340-21; 32 CFR part 505; or may be obtained from the system manager. Appeals of determinations by authority of the Secretary of the Army are governed by AR 600-8-1, Army Casualty and Memorial Affairs and Line of Duty Investigations; collateral review of decided cases is limited to questions of completeness of the records of such determinations.

Record Source Categories:

From the individual, medical records, service member's commander, official Army records and reports, witness statements, civilian and military law enforcement agencies.

Exemptions Claimed for the System:

None.

[FR Doc. 01-6134 Filed 3-12-01; 8:45 am]

BILLING CODE 5001-10-M